DEPARTMENT OF COMMERCE

International Trade Administration

[A-580-809]

Certain Circular Welded Non-Alloy Steel Pipe From the Republic of Korea: Extension of Time Limit for Preliminary Results of the Antidumping Duty Administrative Review

AGENCY: Import Administration, International Trade Administration, Department of Commerce.

FOR FURTHER INFORMATION CONTACT: Jennifer Meek or Mary Kolberg, AD/CVD Operations, Office 1, Import Administration, International Trade Administration, U.S. Department of Commerce, 14th Street and Constitution Avenue, NW., Washington, DC 20230; telephone: (202) 482-2778 and (202) 482-1785, respectively.

SUPPLEMENTARY INFORMATION:

Background

On December 28, 2010, the Department of Commerce (“the Department”) published a notice of initiation of the administrative review of the antidumping duty order on certain circular welded non-alloy steel pipe (“circular welded pipe”) from the Republic of Korea (“Korea”) for the period November 1, 2009, through October 31, 2010. See Initiation of Antidumping and Countervailing Duty Administrative Reviews and Request for Revocation in Part, 75 FR 81565 (December 28, 2010). The current deadline for the preliminary results of this administrative review is August 2, 2011.

Extension of Time Limit for Preliminary Results

Section 751(a)(3)(A) of the Tariff Act of 1930, as amended (“the Act”), requires the Department to issue the preliminary results of an administrative review within 245 days after the last day of the anniversary month of an order for which a review is requested and the final results of review within 120 days after the date on which the preliminary results are published. If it is not practicable to complete the review within the time period, section 751(a)(3)(A) of the Act allows the Department to extend these deadlines to a maximum of 365 days and 180 days, respectively.

The Department requires additional time to analyze sales and cost information submitted by the respondents in this administrative review because this review involves complex sales and accounting issues. Thus, it is not practicable to complete this review within the originally anticipated time limit (i.e., by August 2, 2011). Therefore, the Department is extending the time limit for completion of the preliminary results by 120 days to not later than November 30, 2011, in accordance with section 751(a)(3)(A) of the Act and 19 CFR 351.213(h)(2).

We are issuing and publishing this notice in accordance with sections 751(a)(3)(A) and 777(i)(1) of the Act.

Dated: July 1, 2011.
Christian Marsh,
Deputy Assistant Secretary for Antidumping and Countervailing Duty Operations.

[FR Doc. 2011-17337 Filed 7-8-11; 8:45 am]

BILLING CODE 3510-DS-P